ENVIRONMENTAL PROTECTION AGENCY

40 CFR Parts 52 and 81

[MD160-3113; FRL-7821-1]

Approval and Promulgation of Air Quality Implementation Plans; Maryland; Redesignation of Kent and Queen Anne's Counties Ozone Nonattainment Area to Attainment and Approval of the Area's Maintenance Plan

AGENCY: Environmental Protection Agency (EPA).

ACTION: Final rule.

SUMMARY: EPA is approving a redesignation request and a State Implementation Plan (SIP) submitted by the State of Maryland. The SIP revision establishes a maintenance plan for Kent and Queen Anne's Counties that provides requirements for continued attainment of the one-hour ozone National Ambient Air Quality Standard (NAAQS) for the next 10 years. EPA is approving the revision to the Maryland SIP in accordance with the requirements of the Clean Air Act (CAA).

EFFECTIVE DATE: This final rule is effective on November 22, 2004.

ADDRESSES: Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and Maryland Department of the Environment, 1800 Washington Boulevard, Suite 705, Baltimore, Maryland 21230.

FOR FURTHER INFORMATION CONTACT: Rose Quinto, (215) 814-2182, or by e-mail at quinto.rose@epa.gov.

SUPPLEMENTARY INFORMATION:

I. Background

On August 2, 2004 (69 FR 46124), EPA published a notice of proposed rulemaking (NPR) for the State of Maryland. The NPR proposed approval of Maryland's redesignation request and a SIP revision that establishes a maintenance plan for the Kent and Queen Anne's Counties that provides requirements for continued attainment for the one-hour ozone NAAQS for the next 10 years. The formal SIP revision was submitted by the Maryland Department of the Environment (MDE) on February 9, 2004. Other specific requirements of Maryland's redesignation request, SIP revision for the maintenance plan, and the rationale for EPA's proposed action are explained in the NPR and will not be restated here. No public comments were received on the NPR. However, an erratum was found on page 46127 of the NPR, where the motor vehicle emissions budget (MVEB) for NOX was in error for the period from 2002 until 2014. The correct MVEB for NOX is 7.7 tons per day (tpd) instead of 2.92 tpd NOX (refer to Tables 1 and 2 in the NPR).

II. Final Action

EPA is approving the ozone maintenance plan for Kent and Queen Anne's Counties in Maryland submitted on February 9, 2004, because it meets the requirements of section 175A. In addition, EPA is redesignating Kent and Queen Anne's Counties to ozone attainment because EPA has determined that the provisions of section 107(d)(3)(E) of the CAA for redesignation have been met. Kent and Queen Anne's Counties nonattainment area is subject to the CAA's requirements for marginal ozone nonattainment areas until and unless it is redesignated to attainment.

III. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by December 20, 2004. Filing a petition for reconsideration by the Administrator of this final rule does not affect the finality of this rule for the purposes of judicial review nor does it extend the time within which a petition for judicial review may be filed, and shall not postpone the effectiveness of such rule or action.

This action pertaining to Maryland's redesignation request and maintenance plan for Kent and Queen Anne's counties, may not be challenged later in proceedings to enforce its requirements. (See section 307(b)(2).)

List of Subjects

40 CFR Part 52

Environmental protection, Air pollution control, Incorporation by reference, Intergovernmental relations, Ozone, Reporting and recordkeeping requirements, Volatile organic compounds.

40 CFR Part 81

Air pollution control, National parks, Wilderness areas.

Dated: September 20, 2004.
Thomas C. Voltaggio,
Acting Deputy Regional Administrator, Region III.

40 CFR parts 52 and 81 are amended as follows:

PART 52—[AMENDED]

1. The authority citation for part 52 continues to read as follows:

Authority: 42 U.S.C. 7401 et seq.

Subpart V—Maryland

2. Section 52.1070 is amended by adding paragraph (c)(187) to read as follows:

§ 52.1070 Identification of plan.

* * * * *

(c) * * *

(187) The Ozone Redesignation and Maintenance Plan for Kent and Queen Anne's Counties nonattainment area submitted on February 4, 2004 by the Maryland Department of the Environment:

(i) Incorporation by reference.

(A) A letter dated February 9, 2004 from the Maryland Department of the Environment transmitting Maryland's State Implementation Plan pertaining to the redesignation request for the Kent and Queen Anne's Counties Ozone Nonattainment Area.

(B) SIP Revision 03-15, Redesignation Request for Kent and Queen Anne's Counties Ozone Nonattainment Area, February 4, 2004.

(ii) Additional Material—Remainder of the State submittals pertaining to the revisions listed in paragraph (c)(187)(i) of this section.

PART 81—[AMENDED]

1. The authority citation for Part 81 continues to read as follows:

Authority: 42 U.S.C. 7401 et seq.

2. Section 81.321 is amended by revising the ozone table entry for Kent and Queen Anne's Counties to read as follows:

§ 81.321 Maryland.

* * * * *

Maryland—Ozone (1-Hour Standard)
Designated area | Designation: Date ¹ | Designation: Type | Classification: Date ¹ | Classification: Type
* * * * * * *
Kent County and Queen Anne's County Area
Kent County | October 21, 2004 | Attainment
Queen Anne's County | October 21, 2004 | Attainment
* * * * * * *
¹ This date is October 18, 2000, unless otherwise noted.

* * * * *

[FR Doc. 04-23584 Filed 10-20-04; 8:45 am]

BILLING CODE 6560-50-P